DEPARTMENT OF ENERGY

10 CFR Part 600

[DOE-HQ-2025-0017]

RIN 1991-AC20

Rescinding Obsolete Financial Assistance Rules

AGENCY: Office of Management, Department of Energy.

ACTION: Direct final rule; delay of effective date; response to comments.

SUMMARY: The Department of Energy (“DOE”) is publishing this document to respond to comments received on the direct final rule on the recission of the Department's outdated Financial Assistance Rules that published on May 16, 2025. As a result, DOE delays the effective date of the direct final rule, and is responding to the comment it received on the direct final rule.

DATES: As of July 14, 2025, the effective date of the direct final rule published May 16, 2025, at 90 FR 20761, is delayed until August 13, 2025.

FOR FURTHER INFORMATION CONTACT: Mr. Jeffrey Novak, U.S. Department of Energy, Office of the General Counsel, GC-1, 1000 Independence Avenue SW, Washington, DC 20585-0121; (202) 586-5281 or DOEGeneralCounsel@hq.doe.gov.

SUPPLEMENTARY INFORMATION:

I. May 2025 Direct Final Rule

On May 16, 2025, DOE published a direct final rule rescinding part 600 of title 10, Code of Federal Regulations (“CFR”). 90 FR 20761 (“May 2025 DFR”). Part 600 contains regulations that governed DOE financial assistance awards prior to December 26, 2014. Effective December 26, 2014, DOE adopted the Uniform Administrative Requirements, Cost Principles, and Audit Requirements for Federal Awards in 2 CFR parts 200 and 910. 79 FR 75871 (Dec. 19, 2014); see also 2 CFR 910.120. As a result, the regulations at 10 CFR part 600 are now obsolete. While the regulations may have had some value as a point of reference for ongoing financial assistance awards made prior to December 26, 2014, any such value has diminished over the decade since these regulations were superseded.

II. Response to Comments

DOE received one comment in response to the May 2025 DFR.

Table II.1—List of Commenters for the May 2025 DFR
Commenter | Reference in this rule | Comment No. in the docket | Commenter type
Professor Bridget C.E. Dooling | Dooling | 2 | Individual.

A. Response to Administrative Procedure Act Procedural Comment

Dooling stated that the May 2025 DFR did not satisfy the good cause exemption from notice and comment rulemaking under the Administrative Procedure Act (“APA”). (Dooling, No. 2 at p. 3).

In response, DOE notes that the APA requires that agencies provide all interested persons with fair notice and an opportunity to comment on the rulemaking. See 5 U.S.C. 553(b) & (c). The May 2025 DFR provided the public with fair notice of DOE's changes to obsolete financial assistance regulations. See 90 FR 20761, 20762 (discussing specific administrative changes to outdated financial assistance regulations). DOE also requested comments on the May 2025 DFR, and stated, if the Department received significant adverse comments, the Department would withdraw the rule or issue a new final rule which responds to such comments. Id. at 90 FR 20761. Thus, DOE provided interested persons with fair notice and an opportunity to comment as required by the APA. As a result, there was no need for a good cause exemption from notice-and-comment rulemaking under 5 U.S.C. 553(b).

Finally, contrary to the comment from Dooling (Dooling, No. 2 at p. 4), Dooling cannot argue commenters were denied fair notice and an opportunity to comment solely based on how the notice was labeled. See Little Sisters of the Poor Saints Peter & Paul Home v. Pennsylvania, 591 U.S. 657, 683 (2020) (holding that “[f]ormal labels aside, the [interim final rules] contained all of the elements of a notice of proposed rulemaking as required by the APA”). Irrespective of its title, the May 2025 DFR contained the required elements of a proposed rulemaking under the APA.

III. Conclusion

For the reasons discussed in the preceding sections of this document, DOE is not withdrawing the May 2025 DFR, which finalizes the recission of part 600 in its entirety.

DOE also notes, to the extent that 5 U.S.C. 553 applies to the delay of effective date, it is exempt from notice and comment because it constitutes a rule of procedure under 5 U.S.C. 553(b)(A) and for which no notice or hearing is required by statute. Additionally, this action is not a “substantive rule” for which a 30-day delay in effective date is required under 5 U.S.C. 553(d).

Signing Authority

This document of the Department of Energy was signed on July 9, 2025, by Chris Wright, Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 10, 2025.
Treena V. Garrett
Federal Register Liaison Officer, U.S. Department of Energy.

[FR Doc. 2025-13130 Filed 7-11-25; 8:45 am]

BILLING CODE 6450-01-P